DEPARTMENT OF THE INTERIOR

National Park Service

[NPS-WASO-NAGPRA-15675; PPWOCRADN0-PCU00RP14.R50000]

Notice of Inventory Completion: State Historical Society of Wisconsin, Madison, WI

AGENCY: National Park Service, Interior.

ACTION: Notice.

SUMMARY: The State Historical Society of Wisconsin has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the State Historical Society of Wisconsin. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the State Historical Society of Wisconsin at the address in this notice by July 9, 2014.

ADDRESSES: Jennifer Kolb, Wisconsin Historical Museum, 30 North Carroll Street, Madison, WI 53703, telephone (608) 261-2461, email Jennifer.Kolb@wisconsinhistory.org.

SUPPLEMENTARY INFORMATION: Notice is here given in accordance with the Native American Graves Protection and Repatriation Act (NAGPRA), 25 U.S.C. 3003, of the completion of an inventory of human remains and associated funerary objects under the control of the State Historical Society of Wisconsin, Madison, WI. The human remains and associated funerary objects were removed from four sites in Brown County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the State Historical Society of Wisconsin professional staff in consultation with representatives of the Forest County Potawatomi Community, Wisconsin; Ho-Chunk Nation of Wisconsin; and the Menominee Indian Tribe of Wisconsin.

History and Description of the Remains

Sometime between 1936 and 1951, human remains representing, at minimum, one individual (1951.352-.355 & F1997.60.2) were removed from the Beaumier Farm site (47-BR-0060) in Brown County, WI. Robert Hall collected the fragmentary human remains from the surface of a disturbed context. In 1951, Hall donated the human remains to the State Historical Society. The human remains were determined to represent an adult of indeterminate sex. No known individuals were identified. The three associated funerary objects are a copper awl (1951.356), a copper fragment (1951.357), and a string of buckskin with rolled copper fragments (1951.358).

In 1990, 1991, and 1992, human remains representing, at minimum, twelve individuals (HP.BR-0222.1) were removed from the Bordeleau site (47-BR-0222) in Brown County, WI. The human remains were disturbed by plowing activities, and subsequently collected from the surface by Jim Yinst of the Neville Public Museum. In 1995, the remains from each surface collection were transferred from the Neville Public Museum to the State Historical Society's Burial Sites Office. The human remains were determined to represent eight adults and four subadults, all of indeterminate sex. No known individuals were identified. No associated funerary objects are present.

In 1987, human remains representing, at minimum, three individuals (HP.BR-0434.1) were removed from the Nicolet Grove site (47-BR-0434) in Brown County, WI. The human remains were disturbed by residential construction on the site. A local real estate broker contacted the Neville Public Museum about the human remains and they, in turn, contacted the State Historical Society's Burial Sites Office. Neville Museum staff archeologists excavated the disturbed remains and transferred them to the State Historical Society. State Historical Society staff archeologists surveyed the site and no additional remains were discovered. The human remains were determined to represent an infant, an adolescent, and an adult, all of indeterminate sex. No known individuals were identified. No associated funerary objects are present.

In 1995, human remains representing, at minimum, one individual (HP.BR-0440.1) were removed from the Seymour Burial site (47-BR-0440) in Brown County, WI. The human remains were discovered along an eroding riverbank by the property owners. The property owners removed the human remains and contacted the Brown County Sheriff's Department, who, in turn, contacted the State Historical Society's Burial Sites Office. A staff archeologist investigated the site and no additional human remains were discovered. Later that same year, the property owners discovered additional human remains in water at the foot of the bank. These remains were given to the Brown County Sheriff's Department and then transferred to the State Historical Society. The remains were determined to represent one adult Native American male. No known individuals were identified. No associated funerary objects are present.

Determinations Made by the State Historical Society of Wisconsin

Officials of the State Historical Society of Wisconsin have determined that:

• Pursuant to 25 U.S.C. 3001(9), the human remains described in this notice are Native American based on State Historical Society records, location and context of the burial sites, the presence of associated funerary objects in some instances, and skeletal analysis in some instances.

• Pursuant to 25 U.S.C. 3001(9), the human remains described in this notice represent the physical remains of 17 individuals of Native American ancestry.

• Pursuant to 25 U.S.C. 3001(3)(A), the three objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Forest County Potawatomi Community, Wisconsin.

• Treaties, Acts of Congress, or Executive Orders, indicate that the land from which the Native American human remains and associated funerary objects were removed is the aboriginal land of the Bad River Band of the Lake Superior Tribe of Chippewa Indians of the Bad River Reservation, Wisconsin; Bay Mills Indian Community, Michigan; Bois Forte Band (Nett Lake) of the Minnesota Chippewa Tribe, Minnesota; Cayuga Nation; Chippewa-Cree Indians of the Rocky Boy's Reservation, Montana; Fond du Lac Band of the Minnesota Chippewa Tribe, Minnesota; Grand Portage Band of the Minnesota Chippewa Tribe, Minnesota; Grand Traverse Band of Ottawa and Chippewa Indians, Michigan; Ho-Chunk Nation of Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Menominee Indian Tribe of Wisconsin; Mille Lacs Band of the Minnesota Chippewa Tribe, Minnesota; Minnesota Chippewa Tribe, Minnesota; Oneida Nation of New York; Onondago Nation; Red Cliff Band of Lake Superior Chippewa Indians of Wisconsin; Red Lake Band of Chippewa Indians, Minnesota; Saginaw Chippewa Indian Tribe of Michigan; Saint Regis Mohawk Tribe (previously listed as the St. Regis Band of Mohawk Indians of New York); Sault Ste. Marie Tribe of Chippewa Indians, Michigan; Seneca Nation of Indians (previously listed as the Seneca Nation of New York); Sokaogon Chippewa Community, Wisconsin; St. Croix Chippewa Indians of Wisconsin; Tonawanda Band of Seneca (previously listed as the Tonawanda Band of Seneca Indians of New York); Turtle Mountain Band of Chippewa Indians of North Dakota; Tuscarora Nation; White Earth Band of the Minnesota Chippewa Tribe, Minnesota; and the Winnebago Tribe of Nebraska (hereafter, with the Forest County Potawatomi Community, Wisconsin, referred to as “The Aboriginal Land Tribes”).

• Pursuant to 43 CFR 10.11(c)(1), the disposition of the human remains and associated funerary objects may be to The Aboriginal Land Tribes.

Additional Requestors and Disposition

Representatives of any Indian tribe or Native Hawaiian organization not identified in this notice that wish to request transfer of control of these human remains and associated funerary objects should submit a written request with information in support of the request to Jennifer Kolb, Wisconsin Historical Museum, 30 North Carroll Street, Madison, WI 53703, telephone (608) 261-2461, email Jennifer.Kolb@wisconsinhistory.org, by July 9, 2014. After that date, if no additional requestors have come forward, transfer of control of the human remains and associated funerary objects to The Aboriginal Land Tribes may proceed.

The State Historical Society of Wisconsin is responsible for notifying The Aboriginal Land Tribes that this notice has been published.

Dated: April 24, 2014.
David Tarler,
Acting Manager, National NAGPRA Program.

[FR Doc. 2014-13412 Filed 6-6-14; 8:45 am]

BILLING CODE 4312-50-P